DEPARTMENT OF LABOR

Employee Benefits Security Administration

Advisory Council on Employee Welfare and Pension Benefit Plans; Nominations for Vacancies

Section 512 of the Employee Retirement Income Security Act of 1974 (ERISA), 88 Stat. 895, 29 U.S.C. 1142, provides for the establishment of an Advisory Council on Employee Welfare and Pension Benefit Plans (the Council), consisting of 15 members appointed by the Secretary of Labor (the Secretary) as follows:

• Three representatives of employee organizations (at least one of whom shall be a representative of an organization whose members are participants in a multiemployer plan);

• three representatives of employers (at least one of whom shall be a representative of employers maintaining or contributing to multiemployer plans);

• three representatives from the general public (one of whom shall be a person representing those receiving benefits from a pension plan); and

• one representative each from the fields of insurance, corporate trust, actuarial counseling, investment counseling, investment management, and accounting.

No more than eight members of the Council shall be members of the same political party.

Council members must be qualified to appraise the programs instituted under ERISA. Appointments are for three-year terms. The Council's prescribed duties are to advise the Secretary with respect to carrying out his functions under ERISA, and to submit to the Secretary, or his designee, related recommendations. The Council will meet at least four times each year.

The terms of five Council members expire at the end of this year. The groups or fields they represent are as follows:

(1) Employee organizations;

(2) employers;

(3) the general public;

(4) corporate trust; and

(5) investment management.

The Department of Labor is committed to equal opportunity in the workplace and seeks a broad-based and diverse Council.

If you or your organization wants to nominate one or more people for appointment to the Council to represent one of the groups or fields specified above, submit nominations to Christine Donahue, Council Executive Secretary, as email attachments to donahue.christine@dol.gov or by mail to U.S. Department of Labor, 200 Constitution Ave. NW, Suite N-5700, Washington, DC 20210. Nominations must be received on or before November 6, 2020. The Department will not consider nominations received after November 6, 2020. If sending electronically, please use an attachment in rich text, Word, or pdf format. Please allow three weeks for regular mail delivery to the Department of Labor. Nominations may be in the form of a letter, resolution, or petition signed by the person making the nomination or, in the case of a nomination by an organization, by an authorized representative of the organization. The Department of Labor encourages you to include additional supporting letters of nomination. The Department of Labor will not consider self-nominees who have no supporting letters.

Nominations, including supporting letters, should:

• State the person's qualifications to serve on the Council (including any particular specialized knowledge or experience relevant to the nominee's proposed Council position);

• state that the candidate will accept appointment to the Council if offered;

• include which of the five positions (representing groups or fields) you are nominating the candidate to fill;

• include the nominee's full name, work affiliation, mailing address, phone number, and email address;

• include the nominator's full name, work affiliation, mailing address, phone number, and email address;

• include the nominator's signature, whether sent by email or otherwise.

Please do not include any information that you do not want publicly disclosed.

The Department of Labor will contact nominees for information on their political affiliation and their status as registered lobbyists. Anyone currently subject to federal registration requirements as a lobbyist is not eligible for appointment. Nominees should be aware of the time commitment for attending meetings and actively participating in the work of the Council. Historically, this has meant a commitment of at least 20 days per year. The Department of Labor has a process for vetting nominees under consideration for appointment.

Signed at Washington, DC, this 16th day of September, 2020.
Jeanne Klinefelter Wilson,
Acting Assistant Secretary, Employee Benefits Security Administration.

[FR Doc. 2020-20875 Filed 9-21-20; 8:45 am]

BILLING CODE 4510-29-P